DEPARTMENT OF COMMERCE

National Oceanic and Atmospheric Administration

RIN 0648-XS71

Fisheries of the Exclusive Economic Zone Off Alaska; Recordkeeping and Reporting Requirements; Public Workshops

AGENCY: National Marine Fisheries Service (NMFS), National Oceanic and Atmospheric Administration (NOAA), Commerce.

ACTION: Notice of workshop.

SUMMARY: NMFS, Alaska Region, and the U.S. Coast Guard, North Pacific Fisheries Training Center, will present a workshop on seaLandings, a consolidated electronic means of reporting production of commercial groundfish to multiple management agencies for Federal and State fisheries off the coast of Alaska, and 2010 recordkeeping and reporting requirements for the Alaska groundfish fisheries and Individual Fishing Quota fisheries.

DATES: The workshops will be held on November 18, 2009, 9 a.m. to 5 p.m., Pacific Standard Time.

ADDRESSES: The workshop will be held at the Swedish Cultural Center Seattle, WA, 1920 Dexter Ave. N in the Svea Room on the Main Level.

FOR FURTHER INFORMATION CONTACT: Patty Britza, 907-586-7376.

SUPPLEMENTARY INFORMATION: The workshop will include discussion of seaLandings and 2010 recordkeeping and reporting requirements for Alaska groundfish fisheries and Individual Fishing Quota fisheries and instructions for completing and submitting required reports and logbooks. NMFS will provide a demonstration of the new version of seaLandings for at-sea catcher processors and training on how to submit daily production reports, consolidated landing reports, with and without Individual Fishing Quota, and the maximum retainable amount worksheet.

Special Accomodations

These workshops will be physically accessible to people with disabilities. Requests for sign language interpretation or other auxiliary aids should be directed to Patty Britza, 907 586 7376, at least 5 working days prior to the meeting date.

Dated: November 6, 2009.
James P. Burgess,
Acting Director, Office of Sustainable Fisheries, National Marine Fisheries Service.

[FR Doc. E9-27186 Filed 11-10-09; 8:45 am]

BILLING CODE 3510-22-S